DEPARTMENT OF DEFENSE

Department of the Army

Armed Forces Epidemiological Board; Meeting

AGENCY: Department of the Army; DoD.

ACTION: Notice of partially-closed meeting.

SUMMARY: In accordance with section 10(a)(2) of Public Law 92-463, The Federal Advisory Committee Act, announcement is made of the following meeting:

Name of Committee: Armed Forces Epidemiological Board (AFEB).

Dates: May 21, 2002 (Partially closed meeting). May 22, 2002 (Open meeting).

Times: 7:30 a.m.-4:30 p.m. (May 21, 2002). 7:30 a.m. 1 p.m. (May 22, 2002).

Location: Gaithersburg Marriott Washingtonian Center, 9751 Washingtonian Blvd, Gaithersburg, MD 20878.

Agenda: The purpose of the meeting is to address pending and new Board issues, provide briefings for Board members on topics related to ongoing and new Board issues, conduct subcommittee meetings, and conduct an executive working session, and to have a classified AFEB update on the DoD Immunization Program for Biological Warfare Defense in accordance with DoD Directive 6205.3.

FOR FURTHER INFORMATION CONTACT: Lt Col James R. Riddle, Executive Secretary, Armed Forces Epidemiological Board, Skyline Six, 5109 Leesburg Pike, Room 682, Falls Church, Virginia 22041-3258, (703) 681-8012/3.

SUPPLEMENTARY INFORMATION: This meeting will be partially closed to the public on May 21st. Open sessions of the meeting will be limited by space accommodations. The meeting on May 22nd will be open to the public in accordance with section 552b(c) of Title 5, U.S.C., specifically subparagraph (1) thereof and Title 5, U.S.C., specifically subparagraph (1) thereof and Title 5, U.S.C., appendix 1, subsection 10(d). Any interested person may attend, appear before or file statements with the committee at the time and in the manner permitted by the committee.

Luz D. Ortiz,
Army Federal Register Liaison Officer.

[FR Doc. 02-8177 Filed 4-3-02; 8:45 am]

BILLING CODE 3710-08-M